DEPARTMENT OF LABOR

Employment and Training Administration

[TA-W-61,656]

Glen Raven Technical Fabrics, LLC, a Subsidiary of Glen Raven, Inc., Burnsville, NC; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 17, 2007, applicable to workers of Glen Raven Technical Fabrics, LLC, a subsidiary of Glen Raven, Inc., Burnsville, North Carolina. The notice was published in the Federal Register on August 30, 2007 (72 FR 50126).

At the request of the State agency, the Department reviewed the certification for workers of the subject firm. The workers are engaged in the production of broadwoven fabrics.

The findings show that there was a previous certification, TA-W-56,805, issued on May 6, 2005, for workers of Glen Raven Technical Fabrics, LLC, a subsidiary of Glen Raven, Inc., Burnsville, North Carolina. That certification expired May 6, 2007.

In order to avoid an overlap in worker group coverage, this certification is being amended to change the impact date from June 8, 2006 to May 7, 2007, for workers of the subject firm.

The amended notice applicable to TA-W-61,656 is hereby issued as follows:

“All workers of Glen Raven Technical Fabrics, LLC, a subsidiary of Glen Raven, Inc., Burnsville, North Carolina, who became totally or partially separated from employment on or after May 7, 2007, through August 17, 2009, are eligible to apply for adjustment assistance under Section 223 of the Trade Act of 1974 and are also eligible to apply for alternative trade adjustment assistance under Section 246 of the Trade Act of 1974.”

Signed at Washington, DC, this 6th day of September 2007.
Linda G. Poole,
Certifying Officer, Division of Trade Adjustment Assistance.

[FR Doc. E7-18615 Filed 9-20-07; 8:45 am]

BILLING CODE 4510-FN-P